DEPARTMENT OF COMMERCE

National Oceanic and Atmospheric Administration

[RTID 0648-XE635]

Gulf of Mexico Fishery Management Council; Public Meeting

AGENCY: National Marine Fisheries Service (NMFS), National Oceanic and Atmospheric Administration (NOAA), Commerce.

ACTION: Notice of meeting open to the public.

SUMMARY: The Gulf of Mexico Fishery Management Council (Council) will hold its third Recreational Initiative Working Group meeting in Tampa, FL.

DATES: The meeting will convene Wednesday, February 19, 2025, from 9 a.m. to 5 p.m., EST and Thursday, February 20, 2025, from 9 a.m. to 4 p.m., EST.

ADDRESSES: The meeting will take place at the Gulf Council Office. You may “listen in” by accessing the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION: The purpose of this meeting is to explore innovative management strategies for reef species in the Gulf of Mexico, using the five focal species to illustrate potential approaches. The Working Group will develop consensus-based recommendations on actions for the Council to consider on priority action items and goals identified.

Wednesday, February 19, 2025; 9 a.m.-5 p.m., EST

The meeting will begin with a welcome and recap of previous Working Group Meetings 1 and 2, and an overview of the second Public Engagement Meeting. The Group will be tasked with a homework assignment and convene in breakout sessions to consider preferred seasons, bag limits, and vessel limits and considerations for the 5 focal species. Afterward there will be a report out to the larger group.

The Group will hear a presentation on: Lessons from the Mid-Atlantic—Alternative Approaches to Management of Federally Managed Recreational Fisheries, including Specific Examples of Engagement of the Recreational Sector and Application of Harvest Control Rules. After a working lunch, the Group will hear a series of overviews on Alternative Management Strategies Proposed in Previous Efforts: Potential Benefits and Challenges. Then, the Group will have a breakout session and report out on pros and cons and feasibility of each alternative management strategy including Harvest Control Rule. The Group will be tasked with Homework and Discuss Agenda for Day 2, and any remaining logistics.

Thursday, February 20, 2025; 9 a.m.-4 p.m., EST

The Working Group will begin with review of agenda for Day 2, and a recap key element of Working Groups 1, 2 & 3 for consensus recommendations questions and discussion, followed by a report-out of each breakout. The Group is tasked with identifying commonalities identified by Working Group members on developing trusted data; establishing trust with the recreational community; developing predictable and reliable recreational access; allowing for regional flexibility in management; increasing recreational community engagement in the management process; maximizing angler satisfaction and accommodating growth.

Following the lunch, consultants will guide the Working Group by pulling it all together: consensus recommendations on goals and objectives for recreational fisheries management in the Gulf of Mexico Reef Fish Fisheries for future management approaches that: prevent overfishing; address discards and/or discard mortality; address uncertainty in recreational data; and provide innovative new management approaches. The meeting will end with a wrapping up and Finalize Consensus Recommendations. Lastly, Council staff will offer closing remarks and logistics.

—Meeting Adjourns

The full agenda and additional information will be posted on https://gulfcouncil.org/recreational-initiative/. You may register for the webinar to listen-in only by visiting www.gulfcouncil.org and click on the meeting on the calendar.

The timing and order in which agenda items are addressed may change as required to effectively address the issue, and the latest version along with other meeting materials will be posted on the website as they become available.

Special Accommodations

These meetings are physically accessible to people with disabilities. Requests for sign language interpretation or other auxiliary aid or accommodations should be directed to Kathy Pereira, (813) 348-1630, at least 15 days prior to the meeting date.

Authority: 16 U.S.C. 1801 et seq.

Dated: January 27, 2025.
Rey Israel Marquez,
Acting Deputy Director, Office of Sustainable Fisheries, National Marine Fisheries Service.

[FR Doc. 2025-01977 Filed 1-29-25; 8:45 am]

BILLING CODE 3510-22-P